DEPARTMENT OF HOMELAND SECURITY

Coast Guard

[Docket No. USCG-2007-0107]

National Offshore Safety Advisory Committee

AGENCY: Coast Guard, DHS.

ACTION: Notice of open teleconference meeting.

SUMMARY: This notice announces a teleconference of the National Offshore Safety Advisory Committee (NOSAC). The purpose of the teleconference is for NOSAC to vote on accepting the Subcommittee report “MARPOL Annex II Application to new Offshore Supply Vessels in International Service.”

DATES: The teleconference call will take place on Monday, January 14, 2008, from 10 a.m. to 11 a.m. EST.

ADDRESSES: Members of the committee and public may participate by coming to Room 1303, U.S. Coast Guard Headquarters; 2100 Second Street, SW., Washington, DC 20593-0001. We request that members of the public who plan to attend this meeting notify Mr. Jim Magill at 202-372-1414 so that he may notify building security officials. This notice and the report is available on our online docket, USCG-2007-0107, at http://www.regulations.gov.

FOR FURTHER INFORMATION CONTACT: CDR John Cushing, Executive Director of NOSAC, telephone 202-372-1410 or Mr. Jim Magill, Assistant Executive Director of NOSAC, telephone 202-372-1414.

SUPPLEMENTARY INFORMATION: Notice of this meeting is given under the Federal Advisory Committee Act, 5 U.S.C. App. (Pub. L. 92-463). Committee members and members of the public may participate by dialing 1-888-220-3046 on a touch-tone phone. You will then be prompted to enter your “participant code number,” which is 2556102#. Please ensure that you enter the # mark after the participant code. Public participation is welcomed; however, the number of teleconference lines is limited, and lines are available first-come, first-served.

Agenda of Meeting

The agenda for the Monday, January 14th, 2008 teleconference Committee meeting is as follows:

10 a.m.-10:05 a.m.

Welcome and Opening Remarks—NOSAC Chairman Mr. Chuck Bedell.

10:05 a.m.-10:30 a.m.

Open discussion concerning the Subcommittee report “MARPOL Annex II Application to new Offshore Supply Vessels in International Service.”

10:30a.m.-10:45 a.m.

Public comment period.

10:45 a.m.-11 a.m.

NOSAC vote on the report “MARPOL Annex II Application to new Offshore Supply Vessels in International Service.”

11 a.m.

Adjourn.

This agenda is subject to change and the meeting may adjourn early if all Committee business has been completed.

Public Participation

The Chairman of NOSAC is empowered to conduct the teleconference in a way that will, in his judgment, facilitate the orderly conduct of business. During its teleconference, the Committee welcomes public comment. The Committee will make every effort to hear the views of all interested parties, including the public. Written comments may be submitted on or before the day of the teleconference (SEE ADDRESSES).

Information on Services for Individuals with Disabilities

For information on facilities or services for individuals with disabilities or to request special assistance at the meeting, contact Mr. Magill as soon as possible.

Dated: December 6, 2007.
J. G. Lantz,
Director of Commercial Regulations and Standards.

[FR Doc. E7-24127 Filed 12-12-07; 8:45 am]

BILLING CODE 4910-15-P